ENVIRONMENTAL PROTECTION AGENCY

40 CFR Part 81

Designation of Areas for Air Quality Planning Purposes

CFR Correction

This rule is being published by the Office of the Federal Register to correct an editorial or technical error that appeared in the most recent annual revision of the Code of Federal Regulations.

In Title 40 of the Code of Federal Regulations, Part 81, revised as of July 1, 2025, in section 81.334, in the table titled “North Carolina—2010 Sulfur Dioxide NAAQS [Primary]”, make the following amendments:

a. Revise the “Designated area” and “Date” column headings;

b. Remove the entries for “Brunswick County, NC”, “Brunswick County”, “Lockwood Folly Township, Northwest Township, Shallotte Township, Smithville Township, Town Creek Township, Waccamaw Township”, and “Rest of State:”;

c. Add an entry for “Brunswick County” before “Buncombe County”;

d. Add an entry for “Lockwood Folly Township, Northwest Township, Shallotte Township, Smithville Township, Town Creek Township, Waccamaw Township” under “Brunswick County”; and

e. Remove footnote 2 and redesignate footnotes 1 and 3 as footnotes 2 and 1, respectively.

The revisions and additions read as follows:

§ 81.334 North Carolina.

* * * * *

North Carolina—2010 Sulfur Dioxide NAAQS
[Primary]
Designated area ¹ | Designation: Date ² | Designation: Type
* * * * * * *
Brunswick County | October 28, 2021 | Attainment/Unclassifiable.
Lockwood Folly Township, Northwest Township, Shallotte Township, Smithville Township, Town Creek Township, Waccamaw Township
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

[FR Doc. 2025-14315 Filed 7-28-25; 8:45 am]

BILLING CODE 0099-10-P